ENVIRONMENTAL PROTECTION AGENCY

40 CFR Part 300

[EPA-HQ-SFUND-2008-0575, EPA-HQ-SFUND-2008-0576, EPA-HQ-SFUND-2008-0577, EPA-HQ-SFUND-2008-0585, EPA-HQ-SFUND-2008-0580, EPA-HQ-SFUND-2008-0581, EPA-HQ-SFUND-2008-0582, EPA-HQ-SFUND-2008-0583, EPA-HQ-SFUND-2008-0083, FRL-8790-1]

RIN 2050-AD75

National Priorities List, Final Rule No. 46

Correction

In rule document E9-7825 beginning on page 16126 in the issue of Thursday, April 9, 2009 make the following correction:

Appendix B to Part 300 [Corrected]

On page 16134, in Appendix B to Part 300, the table entitled TABLE 1—GENERAL SUPERFUND SECTION has been corrected to read as follows:

Table 1—General Superfund Section
State | Site name | City/county | Notes ᵃ
* * * * * * *
FL | Arkla Terra Property | Thonotosassa. |
* * * * * * *
FL | Raleigh Street Dump | Tampa. |
* * * * * * *
IN | U.S. Smelter and Lead Refinery, Inc | East Chicago. |
* * * * * * *
OH | Behr Dayton Thermal System VOC Plume | Dayton. |
* * * * * * *
OH | New Carlisle Landfill | New Carlisle. |
* * * * * * *
PA | BoRit Asbetos | Ambler. |
* * * * * * *
SC | Barite Hill/Nevada Goldfields | McCormick. |
* * * * * * *
TX | Attebury Grain Storage Facility | Happy. |
* * * * * * *

[FR Doc. Z9-7825 Filed 12-3-09; 8:45 am]

BILLING CODE 1505-01-D